DEPARTMENT OF COMMERCE

International Trade Administration

[A-570-133]

Certain Metal Lockers and Parts Thereof From the People's Republic of China: Final Results of Antidumping Duty Administrative Review and Final Determination of No Shipments; 2022-2023

AGENCY: Enforcement and Compliance, International Trade Administration, Department of Commerce.

SUMMARY: The U.S. Department of Commerce (Commerce) finds that Xingyi Metalworking Technology (Zhejiang) Co., Ltd. (XMT) and Hangzhou Evernew Machinery & Equipment Company Limited (Hangzhou Evernew) sold certain metal lockers and parts thereof (metal lockers) from the People's Republic of China (China) at less than normal value during the period of review (POR), August 1, 2022, through July 31, 2023.

DATES: Applicable April 16, 2025.

FOR FURTHER INFORMATION CONTACT: Deborah Cohen or Matthew Palmer, AD/CVD Operations, Office III, Enforcement and Compliance, International Trade Administration, U.S. Department of Commerce, 1401 Constitution Avenue NW, Washington, DC 20230; telephone: (202) 482-4521 or (202) 482-1678, respectively.

SUPPLEMENTARY INFORMATION:

Background

On September 13, 2024, Commerce published the Preliminary Results in the Federal Register.¹ On December 9, 2024, Commerce tolled certain deadlines in this administrative proceeding by 90 days.² The deadline for the final results of this administrative review is now April 11, 2025. For a complete description of the events that followed the Preliminary Results, see the Issues and Decision Memorandum.³

¹ See Certain Metal Lockers and Parts Thereof from the People's Republic of China: Preliminary Results, Preliminary Determination of No Shipments, and Partial Rescission of Antidumping Duty Administrative, 89 FR 74901 (September 13, 2024) (Preliminary Results), and accompanying Preliminary Decision Memorandum (PDM).

² See Memorandum, “Tolling of Deadlines for Antidumping and Countervailing Duty Proceedings,” dated December 9, 2024.

³ See Memorandum, “Issues and Decision Memorandum for the Final Results of the Administrative Review of the Antidumping Duty Order on Certain Metal Lockers and Parts Thereof from the People's Republic of China; 2022-2023,” dated concurrently with this notice (Issues and Decision Memorandum).

Scope of the Order ⁴

⁴ See Certain Metal Lockers and Parts Thereof from the People's Republic of China: Antidumping and Countervailing Duty Orders, 86 FR 46826 (August 20, 2021) (Order).

The products covered by the Order are metal lockers from China. For a complete description of the scope of the Order, see the Issues and Decision Memorandum.

Analysis of Comments Received

All issues raised in the case and rebuttal briefs are addressed in the Issues and Decision Memorandum. A list of the issues that parties raised and to which we responded in the Issues and Decision Memorandum is attached as the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on a review of the record and comments received from interested parties regarding the Preliminary Results, we made certain changes to the margin calculations for XMT. Further, due to Hangzhou Evernew's refusal to allow verification of its information in this segment of the proceeding,⁵ we determine that Hangzhou Evernew's submitted data cannot be verified pursuant to section 776(a)(2)(D) of the Tariff Act of 1930, as amended, (the Act). Further, due to the company's failure to cooperate by not acting to the best of its ability to comply with a request for information, we find that the application facts available with an adverse inference (AFA) is warranted pursuant to sections 776(a) and (b) of the Act. Accordingly, as Commerce determines that Hangzhou Evernew's responses in this proceeding are unverifiable and application of AFA appropriate, we conclude that the respondent did not demonstrate eligibility to qualify for a separate rate in this review and, thus, is considered a part of the China-wide entity for the final results of this review.⁶

⁵ See Memorandum, “Notification of Intent to Verify Hangzhou Evernew,” dated October 2, 2024; see also Hangzhou Evernew's Letter, “Response to the Department's Intent to Verify,” dated October 15, 2024.

⁶ For a full description of these changes, see the Issues and Decision Memorandum.

The China-Wide Entity

Commerce's policy regarding the conditional review of the China-wide entity applies to this administrative review.⁷ Under this policy, the China-wide entity will not be under review unless a party specifically requests, or Commerce self-initiates, a review of the entity. Because no party requested a review of the China-wide entity, we did not review the entity in this segment of the proceeding. Thus, the China-wide entity's rate (i.e., 322.25 percent) did not change. Pursuant to the aforementioned finding that Hangzhou Evernew is not eligible for a separate rate and is therefore part of the China-wide entity, the 322.25 percent China-wide rate is the final weighted-average dumping margin applicable to Hangzhou Evernew.

⁷ See Antidumping Proceedings: Announcement of Change in Department Practice for Respondent Selection in Antidumping Duty Proceedings and Conditional Review of the Nonmarket Economy Entity in NME Antidumping Duty Proceedings, 78 FR 65963 (November 4, 2013).

Final Determination of No Shipments

In the Preliminary Results, Commerce determined that Zhejiang Xingyi Metal Products Co., Ltd. (ZXM) and Wanlong Special Containers Co., Ltd. (Wanlong Special Containers) did not have shipments of subject merchandise during the POR.⁸ As we received no information to contradict our preliminary determination with respect to those companies, we continue to find that they made no shipments of subject merchandise to the United States during the POR.

⁸ Id.

Final Results of Review

Commerce determines that the following estimated weighted-average dumping margin exists for the period August 1, 2022, through July 31, 2023:

Exporter | Weighted- average dumping margin (percent)
Xingyi Metalworking Technology (Zhejiang) Co., Ltd | 78.07

Disclosure

Commerce intends to disclose the calculations performed in connection with these final results to interested parties within five days of the date of publication of this notice, in accordance with 19 CFR 351.224(b).

Assessment Rates

Pursuant to section 751(a)(2)(C) of the Act and 19 CFR 351.212(b), Commerce determined, and U.S. Customs and Border Protection (CBP) shall assess, antidumping duties on all appropriate entries of subject merchandise in accordance with the final results of this review. Pursuant to 19 CFR 351.212(b)(1), where XMT reported the entered values of its U.S. sales, we calculated importer-specific antidumping duty assessment rates by aggregating the total amount of dumping calculated for the examined sales of each importer and dividing each of these amounts by the total entered value associated with those sales. Where XMT did not report entered value, we calculated a per-unit assessment rate for each importer by dividing the total amount of dumping calculated for the examined sales made to that importer by the total quantity associated with those sales. To determine whether an importer-specific, per-unit assessment rate is de minimis, in accordance with 19 CFR 351.106(c)(2), we also calculated an importer-specific ad valorem ratio based on estimated entered values. Where either a respondent's weighted-average dumping margin is zero or de minimis within the meaning of 19 CFR 351.106(c)(1), or an importer-specific assessment rate is zero or de minimis, we will instruct CBP to liquidate the appropriate entries without regard to antidumping duties. Pursuant to a refinement in our non-market economy practice, for sales that were not reported in the U.S. sales data submitted by XMT during this review, we will instruct CBP to liquidate entries associated with those sales at the rate for the China-wide entity.⁹

⁹ See Non-Market Economy Antidumping Proceedings: Assessment of Antidumping Duties, 76 FR 65694, 65695 (October 24, 2011) for a full discussion of this practice.

For ZXM and Wanlong Special Containers, which Commerce determined had no shipments of subject merchandise during the POR, we will instruct CBP to assess any suspended entries of subject merchandise that entered under those exporters' CBP case numbers during the POR at the rate for the China-wide entity.

Commerce intends to issue assessment instructions to CBP no earlier than 35 days after the date of publication of these final results. If a timely summons is filed at the U.S. Court of International Trade, the assessment instructions will direct CBP not to liquidate relevant entries until the time for parties to file a request for a statutory injunction has expired (i.e., within 90 days of publication).

Cash Deposit Requirements

The following cash deposit requirements will be effective upon publication of the final results of administrative review for all shipments of subject merchandise entered, or withdrawn from warehouse, for consumption on, or after, the publication date of the final results of review, as provided for by section 751(a)(2)(C) of the Act: (1) the cash deposit rates for the companies identified above in the “Final Results of Review” section will be equal to the company-specific weighted-average dumping margin established in the final results of this administrative review; (2) for a previously investigated or reviewed exporter of subject merchandise not listed in the final results of review that has a separate rate, the cash deposit rate will continue to be the exporter's existing cash deposit rate; (3) for all Chinese exporters of subject merchandise that do not have a separate rate, the cash deposit rate will be the cash deposit rate established for the China-wide entity, i.e., 322.25 percent; ¹⁰ and (4) for all exporters of subject merchandise that are not located in China and that are not eligible for a separate rate, the cash deposit rate will be the rate applicable to the China exporter(s) that supplied that non-Chinese exporter. These deposit requirements, when imposed, shall remain in effect until further notice.

¹⁰ See Certain Metal Lockers and Parts Thereof from the People's Republic of China: Notice of Court Decision Not in Harmony With the Final Determination of Antidumping Duty Investigation; Notice of Amended Final Determination, 88 FR 70644 (October 12, 2023).

Notification to Importers

This notice also serves as a final reminder to importers of their responsibility under 19 CFR 351.402(f)(2) to file a certificate regarding the reimbursement of antidumping and/or countervailing duties prior to liquidation of the relevant entries during this POR. Failure to comply with this requirement could result in Commerce's presumption that reimbursement of antidumping and/or countervailing duties occurred and the subsequent assessment of double antidumping duties and/or an increase in the amount of antidumping duties by the amount of the countervailing duties.

Administrative Protective Order

This notice also serves as the final reminder to parties subject to an administrative protective order (APO) of their responsibility concerning the disposition of proprietary information disclosed under APO in accordance with 19 CFR 351.305(a)(3). Timely written notification of return/destruction of APO materials or conversion to judicial protective order is hereby requested. Failure to comply with the regulations and terms of an APO is a sanctionable violation.

Notification to Interested Parties

We are issuing and publishing this notice in accordance with sections 751(a)(l) and 777(i)(l) of the Act, 19 CFR 351.221(b)(5) and 19 CFR 351.213(h)(1).

Dated: April 9, 2025.
Christopher Abbott,
Deputy Assistant Secretary for Policy and Negotiations, performing the non-exclusive functions and duties of the Assistant Secretary for Enforcement and Compliance.

List of Topics Discussed in the Issues and Decision Memorandum

I. Summary

II. Background

III. Scope of the Order

IV. Changes from the Preliminary Results

V. Discussion of the Issues

Comment 1: Whether Commerce Should Apply AFA to Hangzhou Evernew

Comment 2: Whether Commerce Should Use KKB Engineering Berhad's Financial Statements

Comment 3: Whether Commerce Should Utilize Siraga IEM Sdn Bhd.'s Updated Financial Ratios

Comment 4: Whether Commerce Should Revise Certain Plastic Packing Surrogate Values

Comment 5: Whether Commerce Should Correct Programming for Certain Freight Charges

Comment 6: Whether Commerce Should Use Alternative Rivet Surrogate Value Data

Comment 7: Whether Commerce Should Rescind the Review for Safewell Based on No Shipments

VI. Recommendation

[FR Doc. 2025-06448 Filed 4-15-25; 8:45 am]

BILLING CODE 3510-DS-P